ELECTION ASSISTANCE COMMISSION

Information Collection Activity; Study of Voter Hotlines Operated by Election Offices

AGENCY: U.S. Election Assistance Commission (EAC).

ACTION: Notice; request for comments.

SUMMARY: The U.S. Election Assistance Commission has submitted the following information collection request to the Office of Management and Budget (OMB) for review and clearance in accordance with the Paperwork Reduction Act of 1995. The information collection was previously published in the Federal Register on February 7, 2007, at 72 FR 5682. No comments were received during the 60-day public comment period; changes were made to collection instrument to improve and clarify the data being collected, including three new questions. The purpose of this notice is to allow an additional 30 days for public comments. Comments are encouraged and will be accepted until June 18, 2007. This process is conducted in accordance with 5 CFR 1320.10. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Written comments must be submitted on or before June 18, 2007.

ADDRESSES: Written comments and recommendations on the proposed information collection must be sent to:

OMB Reviewer: Alexander T. Hunt, Office of Management and Budget, Room 10235, New Executive Office Building, Washington, DC 20503, (202) 395-7316.

FOR FURTHER INFORMATION CONTACT: To request more information on this proposed information collection or to obtain a copy of the proposal and associated collection instruments, please, write to the above address or call Ms. Karen Lynn-Dyson at (202) 566-3100.

SUPPLEMENTARY INFORMATION: Title: Study of Voter Hotlines Operated by Election Offices.

OMB Number: Pending.

Type of Review: Regular submission.

Needs and Uses: Section 241(b)(9) of the Help America Vote Act (HAVA) requires the U.S. Election Assistance Commission (EAC) to periodically study election administration issues, including methods of educating voters about the process of registering to vote and voting, the operation of voting mechanisms, the location of polling places, and all other aspects of participating in elections. Furthermore, Section 245(a)(2)(C) of HAVA indicates that the EAC may investigate the impact new communications or Internet technology systems used in the electoral process could have on voter participation rates, voter education, and public accessibility. In 2005, the EAC undertook a research study of voter hotline data available online to determine trends. A voter hotline was defined as a toll-free line that connects voters with elections offices, which then disseminate information and educate voters. The EAC found several hotlines in operation during the 2004 Presidential election, and their sponsorship and capabilities varied to a great degree. To build on and augment these research findings, the EAC wishes to conduct a study to determine the current state of voter information hotlines that are operated by Federal, State, and local election offices.

Affected Public: Federal, State, and local election offices.

Estimated Number of Respondents: 1937.

Responses per Respondent: 1.

Estimated Burden per Response: .5 hours.

Estimated Total Annual Burden Hours: 968.5 hours.

Information will be collected through a survey of existing hotline services operated by Federal, State, and local government agencies and election offices during the 2006 primary and general elections. The data collected will include information on voter hotlines operated by election offices and their features, including, but not limited to:

1. Basic Information. Hotline hours of operation, type of information available through the hotline, automated or non-automated service, links to other sources of voting information.

2. Costs. Breakdown of cost based on volume, cost of database maintenance per record, and all personnel and administrative costs of the service.

3. Features. Important factors include, but are not limited to: (1) Languages used, (2) disability-compliant features, (3) touch tone and voice services, (4) voice response options, and (5) ability for interactivity with additional databases (for example interactivity with a voter registration database).

4. Network Capacity. Number of calls capable of being routed per hour and the number of incoming calls that can be received.

5. Call Tracking. How calls are logged or tracked, how they are routed, and the types or categories of calls received.

6. Hotline personnel. Number of hotline operators and methods by which hotline operators are trained, the frequency of their training and how they are monitored for accuracy, currency, security, and other critical performance variables.

7. Methods by which the network operator maintains the accuracy and currency of the data. Important factors include, but are not limited to how regularly updates are made and quality-control procedures.

8. Maintenance agreements with service providers. Percentage of hotlines that outsource all or part of the Hotline, and experiences working with contractors?

9. Timelines for database creation, contractor integration, and final testing before launch.

10. Security measures to ensure that data in the call-routing network is confidential.

11. Other information such as: Who the intended audience is; demographic, political and socioeconomic information of the community served; cost of publicizing the service and effectiveness of various publicity methods; and lessons learned.

A report on the key findings of the study, along with recommendations for the development and implementation of voter hotlines, will be made available to election officials and the public at the conclusion of this effort.The report will include a state-by-state compendium of the existing voter hotlines and their features. The report will be made available on the EAC Web site at http://www.eac.gov.

Signed:
Thomas R. Wilkey,
Executive Director, U.S. Election Assistance Commission.

[FR Doc. 07-2466 Filed 7-17-07; 8:45am]

BILLING CODE 6820-KF-M